DEPARTMENT OF AGRICULTURE

Forest Service

Lake Tahoe Basin Federal Advisory Committee

AGENCY: Forest Service, USDA.

ACTION: Notice of meeting.

SUMMARY: The Lake Tahoe Basin Federal Advisory Committee will hold meetings on September 16, 2008 and September 22, 2008 or September 23, 2008 at the U.S. Forest Service Office, 35 College Drive, South Lake Tahoe, CA 96150. This Committee, established by the Secretary of Agriculture on December 15, 1998 (64 FR 2876), is chartered to provide advice to the Secretary on implementing the terms of the Federal Interagency Partnership on the Lake Tahoe Region and other matters raised by the Secretary.

DATES: The meetings will be held September 16, 2008, beginning at 1 p.m. and ending at 4 p.m., and September 22, 2008, beginning at 1 p.m. and ending at 4 p.m. or September 23, beginning at 9:30 a.m. and ending at noon. Selection of final meeting dates can be viewed at http://www.fs.fed.us/r5/ltbmu/local/ltfac/.

ADDRESSES: All meetings will be held at the U.S. Forest Service Office, 35 College Drive, South Lake Tahoe, CA 96150.

For Further Information or to Request an Accommodation (One Week Prior to Meeting Date) Contact: Arla Hams, Lake Tahoe Basin Management Unit, Forest Service, 35 College Drive, South Lake Tahoe, CA 96150, (530) 543-2773.

SUPPLEMENTARY INFORMATION: Items to be covered on the agenda on September 16, 2008: (1) New member orientation, and (2) public comment. Items to be covered on the agenda on September 22 or September 23 include: (1) Preparation for SNPLMA Round 10, and (2) committee operations.

All Lake Tahoe Basin Federal Advisory Committee meetings are open to the public. Interested citizens are encouraged to attend at the above address. Issues may be brought to the attention of the Committee during the open public comment period at the meeting or by filing written statements with the secretary for the Committee before or after the meeting. Please refer any written comments to the Lake Tahoe Basin Management Unit at the contact address stated above.

This Federal Register notice will be published less than 15 calendar days based on these exceptional circumstances: (1) The 2008 LTFAC has only recently received a preliminary confirmation (August 22, 2008); and (2) there will be timely meeting notification through the LTBMLJ Web site at http://www.fs.fed.us/r5/ltbmu/local/ltfac/.

Dated: September 2, 2008.
Terri Marceron,
Forest Supervisor.

[FR Doc. E8-20703 Filed 9-8-08; 8:45 am]

BILLING CODE 3410-11-M